DEPARTMENT OF TRANSPORTATION

Federal Highway Administration

23 CFR Part 970

[FHWA Docket No. FHWA-99-4967]

FHWA RIN 2125-AE52

Federal Lands Highway Program; Management Systems Pertaining to the National Park Service and the Park Roads and Parkways Program

AGENCY: Federal Highway Administration (FHWA), DOT.

ACTION: Correction to final rule.

SUMMARY: This document corrects the final rule on the development and implementation of safety, bridge, pavement, and congestion management systems for transportation facilities under the jurisdiction of the National Park Service (NPS) as published in the Federal Register on February 27, 2004 (69 FR 9470). The FHWA is correcting a typographical error in the lettering sequence of a paragraph in § 970.208.

EFFECTIVE DATE: The final rule is effective March 29, 2004.

FOR FURTHER INFORMATION CONTACT: For technical information, Mr. Bob Bini, Federal Lands Highway, HFPD-2, (202) 366-6799, FHWA, 400 Seventh Street, SW., Washington, DC 20590; office hours are from 7:45 a.m. to 4:15 p.m., e.t., Monday through Friday, except Federal holidays. For legal questions, Ms. Vivian Philbin, HFL-16, (303) 716-2122, FHWA, 555 Zang Street, Lakewood, CO 80228. Office hours are from 7:45 a.m. to 4:15 p.m., m.t., Monday through Friday, except Federal holidays.

SUPPLEMENTARY INFORMATION: The FHWA published a document in the Federal Register of February 27, 2004 (69 FR 9470) with an incorrect paragraph designation in § 970.208. The FHWA is correcting this typographical error in the lettering sequence of the paragraph.

§ 970.208 [Amended]

In rule FR Doc. 04-4052 published on February 27, 2004 (69 FR 9470) make the following correction. On page 9475, in the second column of § 970.208, replace the paragraph designation “(e)” with “(d)”.

Issued on: March 25, 2004.
D.J. Gribbin,
Chief Counsel, Federal Highway Administration.

[FR Doc. 04-7116 Filed 3-30-04; 8:45 am]

BILLING CODE 4910-22-P